DEPARTMENT OF COMMERCE

International Trade Administration

[A-570-941]

Certain Kitchen Appliance Shelving and Racks From the People's Republic of China: Final Results and Partial Rescission of First Antidumping Duty Administrative Review

AGENCY: Import Administration, International Trade Administration, Department of Commerce.

SUMMARY: On October 11, 2011, the Department of Commerce (“Department”) published in the Federal Register the preliminary results of the first administrative review of the antidumping duty order on certain kitchen appliance shelving and racks from the People's Republic of China (“PRC”).¹ We gave interested parties an opportunity to comment on the Preliminary Results. Based upon our analysis of the comments and information received, we have made changes to the margin calculations for the final results. We continue to find that certain exporters have sold subject merchandise at less than normal value during the period of review (“POR”) March 5, 2009, through August 31, 2010.²

¹ See Certain Kitchen Appliance Shelving and Racks From the People's Republic of China: Preliminary Results of the First Administrative Review, Preliminary Rescission, in Part, and Extension of Time Limits for the Final Results, 76 FR 62765 (October 11, 2011) (“Preliminary Results”).

² As explained in the Preliminary Results, the abbreviated POR for oven racks, a subset of subject merchandise, is September 9, 2009, through August 31, 2010. See Preliminary Results, 76 FR at 62766.

DATES: Effective Date: April 11, 2012.

FOR FURTHER INFORMATION CONTACT: Katie Marksberry, AD/CVD Operations, Office 9, Import Administration, International Trade Administration, U.S. Department of Commerce, 14th Street and Constitution Avenue NW., Washington, DC 20230; telephone: (202) 482-7906.

SUPPLEMENTARY INFORMATION:

Background

On October 28, 2010, the Department initiated an administrative review of certain kitchen appliance shelving and racks from the PRC for the period March 5, 2009, through August 31, 2010. See Initiation of Antidumping and Countervailing Duty Administrative Reviews, 75 FR 66349 (October 28, 2010) (“Initiation”).³

³ Nashville Wire Products Inc. and SSW Holding Company, Inc. (collectively, “Petitioners”) initially requested that the Department initiate an administrative review of ten companies; however, we required additional information concerning why, pursuant to 19 CFR 351.213(b)(1), Petitioners requested a review of five of these companies. See Initiation, 75 FR at 66352. Accordingly, the Department postponed initiation of this administrative review with respect to five companies requested by Petitioners. See id., and Initiation of Antidumping and Countervailing Duty Administrative Reviews; Correction, 75 FR 69054 (November 10, 2010). After reviewing additional information placed on the record of this administrative review by Petitioners, we determined that, for three of the five companies, Petitioners did not provide any reason, other than alleged transshipment, for initiation; therefore, we declined to initiate a review for Asia Pacific CIS (Thailand) Co., Ltd., Taiwan Rail Company, and King Shan Wire Co., Ltd. See Initiation of Antidumping and Countervailing Duty Administrative Reviews, 75 FR 73036, 73039 (November 29, 2010). However, we did determine that it was appropriate to initiate this review with respect to two additional companies originally requested by Petitioners: Asia Pacific CIS (Wuxi) Co., Ltd.; and Hengtong Hardware Manufacturing (Huizhou) Co., Ltd. See id.

On November 7, 2011, Guangdong Wireking Housewares and Hardware Co., Ltd. (“Wireking”), a mandatory respondent in this review, and Petitioners submitted additional surrogate value (“SV”) information. The Department set the deadline for interested parties to submit case briefs and rebuttal briefs to January 6, 2012, and January 11, 2012, respectively.⁴ On January 6, 2012, New King Shan (Zhu Hai) Co., Ltd. (“NKS”), a mandatory respondent in this review, Wireking, and Petitioners each filed case briefs. On January 11, 2012, NKS and Wireking filed rebuttal briefs. On January 12, 2012, Petitioners filed a rebuttal brief, one day after the established deadline. In this instance, to ensure full consideration of comments made by all parties, the Department has, in its discretion, accepted Petitioners' rebuttal brief.5 6

⁴ See Memorandum to The File, from Kabir Archuletta, Case Analyst, Office 9, Re: Case Brief Schedule, dated December 20, 2011.

⁵ See Memorandum to The File, from Katie Marksberry, Case Analyst, Office 9, Re: Petitioners' Rebuttal Brief, dated January 12, 2012.

⁶ On January 13, 2012, the Department received comments from NKS citing the Department's past practice and questioning the acceptance of Petitioners' rebuttal brief. On January 17, 2012, the Department received comments from Wireking also seeking rejection of Petitioners' rebuttal brief. On January 18, 2012, Petitioners submitted comments to the Department requesting that the Department reject the comments submitted by NKS and Wireking as containing new factual information. On January 20, 2012, the Department sent Wireking a letter rejecting its submission for containing untimely filed new factual information. On January 24, 2012, Wireking resubmitted its comments without inclusion of that new factual information.

The Department did not hold a public hearing, pursuant to 19 CFR 351.310(d), as it did not receive any hearing requests from interested parties.

Analysis of Comments Received

All issues raised in the case and rebuttal briefs by parties to these reviews are addressed in the “Certain Kitchen Appliance Shelving and Racks from the People's Republic of China: Issues and Decision Memorandum for the Final Results of the First Antidumping Duty Administrative Review,” dated concurrently with this notice (“Decision Memo”). A list of the issues which parties raised and to which we respond in the Decision Memo is attached to this notice as an Appendix. The Decision Memo is a public document and is on file electronically via Import Administration's Antidumping and Countervailing Duty Centralized Electronic Service System (“IA ACCESS”). Access to IA ACCESS is available in the Central Records Unit, main Commerce building, Room 7046. In addition, a complete version of the Decision Memo is accessible on the Department's Web site at http://www.trade.gov/ia. The paper copy and electronic versions of the memorandum are identical in content.

Scope of the Order

The scope of the order consists of shelving and racks for refrigerators, freezers, combined refrigerator-freezers, other refrigerating or freezing equipment, cooking stoves, ranges, and ovens (“certain kitchen appliance shelving and racks” or “the merchandise under order”). Certain kitchen appliance shelving and racks are defined as shelving, baskets, racks (with or without extension slides, which are carbon or stainless steel hardware devices that are connected to shelving, baskets, or racks to enable sliding), side racks (which are welded wire support structures for oven racks that attach to the interior walls of an oven cavity that does not include support ribs as a design feature), and subframes (which are welded wire support structures that interface with formed support ribs inside an oven cavity to support oven rack assemblies utilizing extension slides) with the following dimensions:

—Shelving and racks with dimensions ranging from 3 inches by 5 inches by 0.10 inch to 28 inches by 34 inches by 6 inches; or

—Baskets with dimensions ranging from 2 inches by 4 inches by 3 inches to 28 inches by 34 inches by 16 inches; or

—Side racks from 6 inches by 8 inches by 0.1 inch to 16 inches by 30 inches by 4 inches; or

—Subframes from 6 inches by 10 inches by 0.1 inch to 28 inches by 34 inches by 6 inches.

The merchandise under the order is comprised of carbon or stainless steel wire ranging in thickness from 0.050 inch to 0.500 inch and may include sheet metal of either carbon or stainless steel ranging in thickness from 0.020 inch to 0.2 inch. The merchandise under this order may be coated or uncoated and may be formed and/or welded. Excluded from the scope of this order is shelving in which the support surface is glass.

The merchandise subject to the order is currently classifiable in the Harmonized Tariff Schedule of the United States (“HTSUS”) statistical reporting numbers 8418.99.8050, 8418.99.8060, 7321.90.5000, 7321.90.6090, 8516.90.8000, 7321.90.6040, 8516.90.8010 and 8419.90.9520. Although the HTSUS subheadings are provided for convenience and customs purposes, the written description of the scope of the order is dispositive.

Changes Since the Preliminary Results

Based on a review of the record as well as comments received from parties regarding our Preliminary Results, we have made revisions to certain SVs and the margin calculations for Wireking and NKS in the final results. Specifically, we have revised the surrogate financial ratios. See Decision Memo at Comment 2.a and Final SV Memo at 2-3.⁷ We have also corrected an error in the Preliminary Results alleged by NKS. See Decision Memo at Comment 3.a. For all changes to the margin calculations, see Decision Memo and the company specific analysis memoranda.⁸

⁷ See Memorandum to the File, through Catherine Bertrand, Program Manager, Office 9, from Katie Marksberry, Case Analyst, Office 9, Re: First Administrative Review of Certain Kitchen Appliance Shelving and Racks from the People's Republic of China: Surrogate Values for the Final Results, dated concurrently with this notice (“Final SV Memo”).

⁸ See Memorandum to the File, through Catherine Bertrand, Program Manager, Office 9, from Kabir Archuletta, Case Analyst, Office 9, Re: Analysis Memorandum for the Final Results of the First Antidumping Duty Administrative Review of Certain Kitchen Appliance Shelving and Racks from the People's Republic of China: New King Shan (Zhu Hai) Co., Ltd., dated concurrently with this notice (“NKS Analysis Memo”), and Memorandum to the File, through Catherine Bertrand, Program Manager, Office 9, from Katie Marksberry, Case Analyst, Office 9, Re: Analysis Memorandum for the Final Results of the First Antidumping Duty Review of Certain Kitchen Appliance Shelving and Racks from the People's Republic of China: Guandong Wireking Housewares and Hardware Co., Ltd., dated concurrently with this notice (“Wireking Analysis Memo”).

Final Partial Rescission

In the Preliminary Results, the Department preliminarily rescinded this review with respect to Hengtong Hardware Manufacturer (Huizhou) Co., Ltd. (“Hengtong Hardware”) because the Department determined that it had no shipments of subject merchandise to the United States during the POR.⁹ Subsequent to the Preliminary Results, no information was submitted on the record indicating that Hengtong Hardware made sales to the United States of subject merchandise during the POR and no party provided written arguments regarding this issue. Thus, there is no basis for the Department to reconsider its decision and in accordance with 19 CFR 351.213(d)(3), and consistent with our practice, we are rescinding this review with respect to Hengtong Hardware.¹⁰

⁹ See Preliminary Results, 76 FR at 62767.

¹⁰ See, e.g., Certain Frozen Fish Fillets From the Socialist Republic of Vietnam: Notice of Preliminary Results and Partial Rescission of the Third Antidumping Duty Administrative Review, 72 FR 53527, 53530 (September 19, 2007), unchanged in Certain Frozen Fish Fillets From the Socialist Republic of Vietnam: Final Results of Antidumping Duty Administrative Review and Partial Rescission, 73 FR 15479, 15480 (March 24, 2008).

NKS Affiliation/Single Entity

In the Preliminary Results, the Department found NKS affiliated with certain related entities, pursuant to sections 771(33)(A), (E) and (F) of the Tariff Act of 1930, as amended (“the Act”), based on ownership and common control, in accordance with our determination in the LTFV Investigation Final.¹¹ For these final results, based on the evidence presented in NKS's questionnaire responses, we find that NKS and one of its affiliated entities should be treated as a single entity for the purposes of this administrative review. This finding is based on our determination that NKS and its affiliated entity are involved in the export of subject merchandise sold by NKS and that a significant potential for manipulation of price or production exists between these entities. See Decision Memo at Comment 3.b.¹²

¹¹ See Preliminary Results, 76 FR at 62767; see also Memorandum to the File through Catherine Bertrand, Program Manager, Office 9, from Kabir Archuletta, Case Analyst, Office 9, RE: First Administrative Review of Certain Kitchen Appliance Shelving and Racks from the People's Republic of China: Affiliations of New King Shan (Zhu Hai) Co., Ltd., dated September 30, 2011, and Certain Kitchen Appliance Shelving and Racks From the People's Republic of China: Final Determination of Sales at Less Than Fair Value, 74 FR 36656 (July 24, 2009) (“LTFV Investigation Final”), amended by Certain Kitchen Appliance Shelving and Racks from the People's Republic of China: Amended Final Determination of Sales at Less Than Fair Value and Notice of Antidumping Duty Order, 74 FR 46971 (September 14, 2009) (“LTFV Investigation Amended Final”).

¹² While NKS's affiliated entity is not a producer of subject merchandise, where companies are affiliated and there exists a significant potential for manipulation of prices and/or export decisions, the Department has found it appropriate to treat those companies as a single entity. See Hontex Enterprises, Inc. v. United States, 248 F. Supp. 2d 1323, 1343 (CIT 2003). In this case, not only is NKS's affiliated entity an exporter of subject merchandise, but it is an intermediary for all transactions of subject merchandise between NKS and its unaffiliated U.S. customer(s). Due to the proprietary nature of this issue, see Memorandum to the File, through Catherine Bertrand, Program Manager, Office 9, from Kabir Archuletta, Case Analyst, Office 9, RE: First Administrative Review of Certain Kitchen Appliance Shelving and Racks from the People's Republic of China: Affiliations of New King Shan (Zhu Hai) Co., Ltd. for the Final Results, dated concurrently with this notice.

Separate Rates

In our Preliminary Results, we determined that the following companies met the criteria for separate rate status: Wireking, NKS, and Hangzhou Dunli Import & Export Co., Ltd.¹³ We have not received any information since the issuance of the Preliminary Results that provides a basis for reconsideration of these determinations. Therefore, the Department continues to find that the companies listed above meet the criteria for a separate rate.

¹³ See Preliminary Results, 76 FR at 62769.

The separate rate is determined based on the calculated weighted-average antidumping margins established for exporters and producers individually investigated, excluding zero and de minimis margins or margins based entirely on adverse facts available (“AFA”). In this administrative review, one mandatory respondent, Wireking, has a calculated weighted-average antidumping margin which is above de minimis and NKS, the other mandatory respondent has a calculated margin which is zero. Therefore, because there is only one weighted-average antidumping margin calculated for these final results that is neither zero, de minimis, nor based entirely on AFA, we have assigned Wireking's margin to the companies not selected for individual examination.¹⁴

¹⁴ See, e.g., Certain Steel Nails From the People's Republic of China: Final Results of the First Antidumping Duty Administrative Review, 76 FR 16379, 16381-82 (March 23, 2011); Certain Frozen Fish Fillets From the Socialist Republic of Vietnam: Final Results of the Antidumping Duty Administrative Review and New Shipper Reviews, 74 FR 11349, 11350 n.3 (March 17, 2009).

The PRC-Wide Entity and Use of Adverse Facts Available

Sections 776(a)(1) and (2) of the Act provide that the Department shall apply “facts otherwise available” if, inter alia, necessary information is not on the record or an interested party or any other person: (A) Withholds information that has been requested; (B) fails to provide information within the deadlines established, or in the form and manner requested by the Department, subject to subsections (c)(1) and (e) of section 782 of the Act; (C) significantly impedes a proceeding; or (D) provides information that cannot be verified as provided by section 782(i) of the Act.

Section 776(b) of the Act further provides that the Department may use an adverse inference in applying the facts otherwise available when a party has failed to cooperate by not acting to the best of its ability to comply with a request for information. Section 776(b) of the Act also authorizes the Department to use as AFA information derived from the petition, the final determination, a previous administrative review, or other information placed on the record.

Asia Pacific CIS (Wuxi) Co., Ltd., and Leader Metal Industry Co., Ltd. (aka Marmon Retail Services Asia), companies upon which the Department initiated administrative reviews that have not been rescinded, did not submit either a separate rate application or certification.¹⁵ In addition, Jiangsu Weixi Group Co. (“Weixi”), was initially selected as a mandatory respondent and did not respond to the Department's antidumping duty questionnaire.¹⁶ Therefore, because Weixi did not cooperate with the Department's request for information, and Asia Pacific CIS (Wuxi) Co., Ltd., and Leader Metal Industry Co., Ltd. (aka Marmon Retail Services Asia) did not demonstrate their eligibility for separate rate status in a timely manner, we have determined it is appropriate to consider these companies as part of the PRC-wide entity.¹⁷

¹⁵ See Preliminary Results, 76 FR at 62769.

¹⁶ See Id.

¹⁷ See Id., at 62770.

The PRC-wide entity did not respond to our requests for information. Because the PRC-wide entity did not respond to our requests for information, we find it necessary under section 776(a)(2) of the Act to use facts available as the basis for these final results. We further find that the PRC-wide entity—consisting of Weixi, Asia Pacific CIS (Wuxi) Co., Ltd., and Leader Metal Industry Co., Ltd. (aka Marmon Retail Services Asia)—failed to respond to the Department's requests for information and, therefore, did not cooperate to the best of its ability. Therefore, because the PRC-wide entity did not cooperate to the best of its ability in the proceeding, the Department finds it necessary to use an adverse inference in making its determination, pursuant to section 776(b) of the Act.

Selection of the Adverse Facts Available Rate

In deciding which facts to use as AFA, section 776(b) of the Act and 19 CFR 351.308(c)(1) authorize the Department to rely on information derived from (1) The petition, (2) a final determination in the investigation, (3) any previous review or determination, or (4) any other information placed on the record. Because of the PRC-wide entity's failure to cooperate in this administrative review, we have assigned the PRC-wide entity an AFA rate of 95.99 percent, which is the PRC-wide rate determined in the LTFV Investigation Amended Final and the only rate ever determined for the PRC-wide entity in this proceeding.¹⁸

¹⁸ See LTFV Investigation Amended Final, 74 FR at 46973.

The Department determines for these final results that this information is the most appropriate from the available sources to effectuate the purposes of AFA, which is to induce respondents to provide the Department with complete and accurate information in a timely manner.¹⁹ The Department's reliance on the PRC-wide rate from the original investigation to determine an AFA rate is subject to the requirement to corroborate secondary information.²⁰

¹⁹ See Notice of Final Determination of Sales at Less than Fair Value: Static Random Access Memory Semiconductors From Taiwan, 63 FR 8909, 8932 (February 23, 1998).

²⁰ See section 776(c) of the Act and the “Corroboration of Facts Available” section below.

Corroboration of Adverse Facts Available

Section 776(c) of the Act requires that, where the Department relies on secondary information in selecting AFA, the Department corroborate such information to the extent practicable. To be considered corroborated, the Department must find the information has probative value, meaning that the information must be both reliable and relevant.²¹

²¹ See SAA at 870; Tapered Roller Bearings and Parts Thereof, Finished and Unfinished, From Japan, and Tapered Roller Bearings, Four Inches or Less in Outside Diameter, and Components Thereof, From Japan; Preliminary Results of Antidumping Duty Administrative Reviews and Partial Termination of Administrative Reviews, 61 FR 57391, 57392 (November 6, 1996), unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997).

The Department considers the AFA rate calculated for the current review to be both reliable and relevant. On the issue of reliability, the Department corroborated the AFA rate in the LTFV Investigation Amended Final.²² No information has been presented in the current review that calls into question the reliability of this information. With respect to the relevance, the Department will consider information reasonably at its disposal to determine whether a margin continues to have relevance. Where circumstances indicate that the selected margin is not appropriate as AFA, the Department will disregard the margin and determine an appropriate margin. For example, in Fresh Cut Flowers from Mexico, the Department disregarded the highest margin in that case as best information available (the predecessor to AFA) because the margin was based on another company's uncharacteristic business expense resulting in an unusually high margin.²³ Since the investigation, the Department has found no other corroborating information available in this case, and received no comments from interested parties as to the relevance or reliability of that secondary information. Based upon the above, for these final results, the Department finds that the rate derived from the Petition and assigned to the PRC-wide entity in the LTFV Investigation Amended Final is corroborated to the extent practicable for purposes of assigning the PRC-wide entity the same 95.99 percent rate as AFA in this administrative review.

²² See LTFV Investigation Amended Final, 74 FR at 46973.

²³ See Fresh Cut Flowers from Mexico; Final Results of Antidumping Administrative Review, 61 FR 6812, 6814 (February 22, 1996) (“Fresh Cut Flowers from Mexico”).

Export Subsidy Adjustment

Section 772(c)(1)(C) of the Act states that the price used to establish export price or constructed export price (“CEP”) “shall be increased by the amount of any countervailing duty imposed on the subject merchandise * * * to offset an export subsidy.” ²⁴ The Department determined in its final results of the companion countervailing duty administrative review that NKS and Wireking's merchandise benefited from export subsidies.²⁵ Therefore, because Wireking and NKS both reported their POR sales on a CEP basis,²⁶ we have increased each company's CEP for countervailing duties imposed that are attributable to export subsidies, where appropriate.²⁷

²⁴ See e.g., Carbazole Violet Pigment 23 from India: Final Results of Antidumping Duty Administrative Review, 75 FR 38076, 38077 (July 1, 2010), and accompanying Issues and Decision Memorandum at Comment 1.

²⁵ See Certain Kitchen Appliance Shelving and Racks from the People's Republic of China: Final Results of the Countervailing Duty Administrative Review, signed concurrently with this notice.

²⁶ See Preliminary Results, 76 FR at 62773-74.

²⁷ See NKS Analysis Memo and Wireking Analysis Memo.

Final Results of Review

The Department has determined that the following final dumping margins exist for the period March 5, 2009, through August 31, 2010:

Exporter | Margin (percent)
Guangdong Wireking Housewares & Hardware Co., Ltd. (a/k/a Foshan Shunde Wireking Housewares & Hardware Co., Ltd.) ²⁸ | 7.89
New King Shan (Zhu Hai) Co., Ltd | 0.00
Hangzhou Dunli Import & Export Co., Ltd | 7.89
PRC-Wide Entity ²⁹ | 95.99

Assessment

²⁸ In the LTFV Investigation Final, the Department found that Wireking was a single entity with Company G (the name of this company is business proprietary). See Wireking Analysis Memo. The information placed on the record of this review demonstrates that there have not been any changes to the ownership structure. Therefore, we continue to find Wireking and Company G to constitute a single entity.

²⁹ The PRC-wide entity includes Weixi, Asia Pacific CIS (Wuxi) Co., Ltd., and Leader Metal Industry Co., Ltd. (aka Marmon Retail Services Asia), as well as any company that does not have a separate rate.

Upon issuance of the final results, the Department will determine, and U.S. Customs and Border Protection (“CBP”) shall assess, antidumping duties on all appropriate entries. The Department intends to issue assessment instructions to CBP 15 days after the date of publication of the final results of review. Pursuant to 19 CFR 351.212(b)(1), the Department will calculate importer (or customer)-specific assessment rates based on the ratio of the total amount of the dumping margins calculated for the examined sales to the total entered value of those same sales. The Department will instruct CBP to assess antidumping duties on all appropriate entries covered by this review if any importer-specific assessment rate is above de minimis.

Disclosure

We will disclose the calculations performed within five days of the date of publication of this notice to parties in this proceeding in accordance with 19 CFR 351.224(b).

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rate established in these final results of review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 206.00 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Order

This notice also serves as a final reminder to parties subject to administrative protective order (“APO”) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing this notice in accordance with sections 751(a)(1) and 777(i) of the Act.

Dated: April 4, 2012.
Paul Piquado,
Assistant Secretary for Import Administration.

Appendix I—Decision Memorandum

General Issues

Comment 1: Zeroing

Comment 2: Surrogate Values

a. Surrogate Financial Ratios

b. Brokerage and Handling

Company Specific Issues

Comment 3: Issues Regarding NKS

a. Conversion of Gross Unit Price

b. Inclusion of Affiliate's Name in Cash Deposit and Liquidation Instructions

[FR Doc. 2012-8736 Filed 4-10-12; 8:45 am]

BILLING CODE 3510-DS-P